DEPARTMENT OF HOMELAND SECURITY

Federal Emergency Management Agency

[Docket ID FEMA-2021-0002; Internal Agency Docket No. FEMA-B-2101]

Proposed Flood Hazard Determinations

AGENCY: Federal Emergency Management Agency; Department of Homeland Security.

ACTION: Notice; correction.

SUMMARY: On January 19, 2021, FEMA published in the Federal Register a proposed flood hazard determination notice that contained an erroneous table. This notice provides corrections to that table to be used in lieu of the erroneous information. The tables provided here represent the proposed flood hazard determinations and communities affected for Norfolk County, Massachusetts (All Jurisdictions); Plymouth County, Massachusetts (All Jurisdictions); and, Suffolk County, Massachusetts (All Jurisdictions).

DATES: Comments are to be submitted on or before June 10, 2021.

ADDRESSES: The Preliminary Flood Insurance Rate Map (FIRM), and where applicable, the Flood Insurance Study (FIS) report for each community are available for inspection at both the online location and the respective Community Map Repository address listed in the table below. Additionally, the current effective FIRM and FIS report for each community are accessible online through the FEMA Map Service Center at https://msc.fema.gov for comparison.

You may submit comments, identified by Docket No. FEMA-B-2101, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed in the table below, in accordance with Section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own, or pursuant to policies established by other Federal, State, or regional entities. These flood hazard determinations are used to meet the floodplain management requirements of the NFIP and are also used to calculate the appropriate flood insurance premium rates for new buildings built after the FIRM and FIS report become effective.

Use of a Scientific Resolution Panel (SRP) is available to communities in support of the appeal resolution process. SRPs are independent panels of experts in hydrology, hydraulics, and other pertinent sciences established to review conflicting scientific and technical data and provide recommendations for resolution. Use of the SRP may only be exercised after FEMA and local communities have been engaged in a collaborative consultation process for at least 60 days without a mutually acceptable resolution of an appeal. Additional information regarding the SRP process can be found online at https://floodsrp.org/pdfs/srp_fact_sheet.pdf.

The communities affected by the flood hazard determinations are provided in the table below. Any request for reconsideration of the revised flood hazard determinations shown on the Preliminary FIRM and FIS report that satisfies the data requirements outlined in 44 CFR 67.6(b) is considered an appeal. Comments unrelated to the flood hazard determinations will also be considered before the FIRM and FIS report are made final.

Correction

In the proposed flood hazard determination notice published at 86 FR 5228 in the January 19, 2021, issue of the Federal Register, FEMA published tables titled Norfolk County, Massachusetts (All Jurisdictions); Plymouth County, Massachusetts (All Jurisdictions); and Suffolk County, Massachusetts (All Jurisdictions). These tables contained inaccurate information as to the communities affected by the proposed flood hazard determinations for the Town of Plainville in Norfolk County; the Town of Hanover and the Town of Hull in Plymouth County; and the Town of Winthrop in Suffolk County. In this document, FEMA is publishing the tables containing the accurate information. The information provided below should be used in lieu of that previously published.

(Catalog of Federal Domestic Assistance No. 97.022, “Flood Insurance.”)

Michael M. Grimm,
Assistant Administrator for Risk Management, Department of Homeland Security, Federal Emergency Management Agency.

Community | Community map repository address
Norfolk County, Massachusetts (All Jurisdictions)
Project: 15-01-0633S Preliminary Date: June 19, 2020
City of Quincy | City Hall, 1305 Hancock Street, Quincy, MA 02169.
Town of Avon | Town Hall, 65 East Main Street, Avon, MA 02322.
Town of Bellingham | Municipal Center, 10 Mechanic Street, Bellingham, MA 02019.
Town of Braintree | Town Hall, 1 John F. Kennedy Memorial Drive, Braintree, MA 02184.
Town of Brookline | Town Hall, 333 Washington Street, Brookline, MA 02445.
Town of Canton | Town Hall, 801 Washington Street, Canton, MA 02021.
Town of Cohasset | Town Hall, 41 Highland Avenue, Cohasset, MA 02025.
Town of Dedham | Town Hall, 450 Washington Street, Dedham, MA 02026.
Town of Dover | Town House, 5 Springdale Avenue, Dover, MA 02030.
Town of Foxborough | Town Hall, 40 South Street, Foxborough, MA 02035.
Town of Franklin | Town Hall, 355 East Central Street, Franklin, MA 02038.
Town of Holbrook | Town Hall, 50 North Franklin Street, Holbrook, MA 02343.
Town of Medfield | Town Hall, 459 Main Street, Medfield, MA 02052.
Town of Medway | Town Hall, 155 Village Street, Medway, MA 02053.
Town of Millis | Veterans Memorial Building, 900 Main Street, Millis, MA 02054.
Town of Milton | Town Office Building, 525 Canton Avenue, Milton, MA 02186.
Town of Needham | Town Hall, 1471 Highland Avenue, Needham, MA 02492.
Town of Norfolk | Town Hall, 1 Liberty Lane, Norfolk, MA 02056.
Town of Norwood | Town Hall, 566 Washington Street, Norwood, MA 02062.
Town of Randolph | Town Hall, 41 South Main Street, Randolph, MA 02368.
Town of Sharon | Town Office Building, 90 South Main Street, Sharon, MA 02067.
Town of Stoughton | Town Hall, 10 Pearl Street, Stoughton, MA 02072.
Town of Walpole | Town Hall, 135 School Street, Walpole, MA 02081.
Town of Wellesley | Town Hall, 525 Washington Street, Wellesley, MA 02482.
Town of Westwood | Town Hall, 580 High Street, Westwood, MA 02090.
Town of Weymouth | Town Hall, 75 Middle Street, Weymouth, MA 02189.
Town of Wrentham | Town Hall, 79 South Street, Wrentham, MA 02093.
Plymouth County, Massachusetts (All Jurisdictions)
Project: 15-01-0633S Preliminary Date: June 19, 2020
Town of Abington | Town Hall, 500 Gliniewicz Way, Abington, MA 02351.
Town of Hingham | Town Hall, 210 Central Street, Hingham, MA 02043.
Town of Norwell | Town Hall, 345 Main Street, Norwell, MA 02061.
Town of Rockland | Town Hall, 242 Union Street, Rockland, MA 02370.
Suffolk County, Massachusetts (All Jurisdictions)
Project: 15-01-0633S Preliminary Date: June 19, 2020
City of Boston | City Hall, 1 City Hall Square, Boston, MA 02201.
City of Chelsea | City Hall, 500 Broadway, Chelsea, MA 02150.
City of Revere | City Hall, 281 Broadway, Revere, MA 02151.

[FR Doc. 2021-05220 Filed 3-11-21; 8:45 am]

BILLING CODE 9110-12-P